DEPARTMENT OF COMMERCE

National Oceanic and Atmospheric Administration

[I.D. 111505A]

Pacific Fishery Management Council; Notice of Intent, Extension of Public Scoping Period for Intersector Groundfish Allocations

AGENCY: National Marine Fisheries Service (NMFS), National Oceanic and Atmospheric Administration (NOAA), Commerce.

ACTION: Extension of public scoping period for an environmental impact statement (EIS); request for comments.

SUMMARY: NMFS and the Pacific Fishery Management Council (Pacific Council) announce their intent to extend the public scoping period for an EIS in accordance with the National Environmental Policy Act (NEPA) of 1969 to analyze proposals to allocate groundfish among various sectors of the non-tribal Pacific Coast groundfish fishery.

DATES: Public scoping meetings will be announced in the Federal Register at a later date. Written comments will be accepted at the Pacific Council office through August 23, 2006. The public comment period will be reopened as part of the public comment section under the intersector allocation agenda item at the Pacific Council meeting in Foster City, CA, the week of Monday, September 11, 2006. Additional information on the time and location for this meeting will be provided when the meeting is announced in the Federal Register.

ADDRESSES: You may submit comments, on issues and alternatives, identified by 111505A by any of the following methods:

• E-mail: ##GFAllocationEIS.nwr@noaa.gov. Include [111505A] and enter “Scoping Comments” in the subject line of the message.

• Fax: 503-820-2299.

• Mail: Dr. Donald McIsaac, Pacific Fishery Management Council, 7700 NE Ambassador Pl., Suite 200, Portland, OR 97220.

FOR FURTHER INFORMATION CONTACT: Mr. John DeVore, Pacific Fishery Management Council, phone: 503-820-2280, fax: 503-820-2299 and email: john.devore@noaa.gov; or Ms. Yvonne de Reynier NMFS, Northwest Region, phone: 206-526-6129, fax: 206-526-6426 and email: yvonne.dereynier@noaa.gov.

SUPPLEMENTARY INFORMATION:

Electronic Access

This Federal Register document is available on the Government Printing Office's website at: www.gpoaccess.gov/fr/index/html.

Description of the Proposal

The proposed action with a description of the proposal was noticed in the Federal Register on November 21, 2005 (70 FR 70054).

Preliminary Identification of Environmental Issues

A principal objective of this scoping and public input process is to identify potentially significant impacts to the human environment that should be analyzed in depth in the intersector allocation EIS. Concomitant with identification of those impacts to be analyzed in depth is identification and elimination from detailed study of issues that are not significant or which have been covered in prior environmental reviews. This narrowing is intended to allow greater focus on those impacts that are potentially most significant. Impacts on the following components of the biological and physical environment will be evaluated: (1) Essential fish habitat and ecosystems; (2) protected species listed under the Endangered Species Act and Marine Mammal Protection Act and their habitat; and (3) the fishery management unit, including target and non-target fish stocks. Socioeconomic impacts are also considered in terms of the effect changes will have on the following groups: (1) those who participate in harvesting the fishery resources and other living marine resources (for commercial, subsistence, or recreational purposes); (2) those who process and market fish and fish products; (3) those who are involved in allied support industries; (4) those who rely on living marine resources in the management area; (5) those who consume fish products; (6) those who benefit from non-consumptive use (e.g., wildlife viewing); (7) those who do not use the resource, but derive benefit from it by virtue of its existence, the option to use it, or the bequest of the resource to future generations; (8) those involved in managing and monitoring fisheries; and (9) fishing communities. Analysis of the effects of the alternatives on these groups will be presented in a manner that allows the identification of any disproportionate impacts on low income and minority segments of the identified groups, impacts on small entities, and cumulative impacts. Additional comment is sought on other types of impacts that should be considered or specific impacts to which particular attention should be paid within these categories.

Scoping and Public Involvement

Scoping is an early and open process for identifying the scope of notable issues related to proposed alternatives (including status quo and other alternatives identified during the scoping process). A principal objective of the scoping and public input process is to identify a reasonable set of alternatives that, with adequate analysis, sharply define critical issues and provide a clear basis for distinguishing among those alternatives and selecting a preferred alternative. The public scoping process provides the public with the opportunity to comment on the range of alternatives. The scope of the alternatives to be analyzed should be broad enough for the Pacific Council and NMFS to make informed decisions on whether an alternative should be developed and, if so, how it should be designed, and to assess other changes to the FMP and regulations necessary for the implementation of the alternative.

Written comments will be accepted at the Pacific Council office through August 23, 2006 (see ADDRESSES). The public comment period will be reopened as part of the public comment section under the intersector allocation agenda item at the Pacific Council meeting in Foster City, CA, the week of September 11, 2006. Additional information on the time and location for this meeting will be provided when the meeting is announced in the Federal Register. This information will also be posted on the Council website (www.pcouncil.org).

Authority: 16 U.S.C. 1801 et seq.

Dated: June 8, 2006.
Alan D. Risenhoover,
Acting Director, Office of Sustainable Fisheries, National Marine Fisheries Service.

[FR Doc. E6-9309 Filed 6-13-06; 8:45 am]

BILLING CODE 3510-22-S